GENERAL SERVICES ADMINISTRATION

[OMB Control No. 3090-0306; Docket No. 2022-0001; Sequence No. 14]

Information Collection; General Services Administration Acquisition Regulation; Transactional Data Reporting

AGENCY: Office of Acquisition Policy, General Services Administration (GSA).

ACTION: Notice of request for comments regarding an extension to an existing OMB clearance.

SUMMARY: Under the provisions of the Paperwork Reduction Act, the Regulatory Secretariat Division is submitting a request to the Office of Management and Budget (OMB) to review and approve an extension of a previously approved information collection requirement regarding OMB Control No. 3090-0306, Transactional Data Reporting.

DATES: Submit comments on or before: October 21, 2022.

ADDRESSES: Submit comments identified by Information Collection 3090-0306, Transactional Data Reporting via http://www.regulations.gov. Submit comments via the Federal eRulemaking portal by searching the OMB control number. Select the link “Comment” that corresponds with “3090-0306, Transactional Data Reporting.” Follow the instructions provided on the screen. Please include your name, company name (if any), and “Information Collection 3090-0306, Transactional Data Reporting” on your attached document. If your comment cannot be submitted using regulations.gov, call or email the points of contact in the FOR FURTHER INFORMATION CONTACT section of this document for alternate instructions.

Instructions: Please submit comments only and cite Information Collection 3090-0306, Transactional Data Reporting, in all correspondence related to this collection. All comments received will be posted without change to http://www.regulations.gov, including any personal and/or business confidential information provided. To confirm receipt of your comment(s), please check regulations.gov, approximately two-to-three days after submission to verify posting.

FOR FURTHER INFORMATION CONTACT: Mr. Thomas O'Linn, Procurement Analyst, General Services Acquisition Policy Division, GSA, 202-445-0390 or email gsarpolicy@gsa.gov.

SUPPLEMENTARY INFORMATION:

A. Purpose

This information collection is for GSA Federal Supply Schedules (FSS) and non-FSS offerors and contractors subject to transactional data report (TDR) requirements. Transactional data encompasses the historical details of the products or services delivered by a contractor during the performance of task or delivery orders issued against a contract subject to TDR requirements. TDR requirements are found within Alternate I of General Services Administration Acquisition Regulation (GSAR) clause 552.238-80, Industrial Funding Fee and Sales Reporting, and 552.216-75, Transactional Data Reporting. GSAR clauses 552.216-70, Economic Price Adjustment—FSS Multiple Award Schedule Contracts (Deviation II); Alternate I of 552.238-81, Price Reductions; 552.238-83 Examination of Records by GSA; and 552.238-85, Contractor's Billing Responsibilities, are additional GSAR clause directly associated with FSS contracts subject to these requirements. This information collection does not apply to GSA FSS offerors and contractors subject to pricing disclosures and sales reporting requirements. The burden associated with pricing disclosures and sales reporting requirements is covered under information collection OMB control number 3090-0235, Federal Supply Schedule Pricing Disclosures and Sales Reporting.

B. Annual Reporting Burden

The total estimated annual public cost burden for this information collection is estimated to be $18,104,484.46. The total estimated annual public burden hours resulting from this information collection is 281,344 hours. These numbers are calculated by adding up the total estimated annual burden cost/hour for each of the following GSAR clauses covered by this information collection: 552.216-75, Transactional Data Reporting; Alternate I of 552.238-80, Industrial Funding Fee and Sales Reporting; Alternate I of 552.238-81, Price Reductions; 552.216-70, Economic Price Adjustment—FSS Multiple Award Schedule Contracts (Deviation II); 552.238-83, Examination of Records by GSA; and 552.238-85, Contractor's Billing Responsibilities.

Burden Cost/Hour Calculation

Total estimated burden hour/cost for the basic version of 552.216-75, Transactional Data Reporting, and Alternate I of GSAR clause 552.238-80, Industrial Funding Fee and Sales Reporting.

The two primary activities associated with 552.216-75, Transactional Data Reporting, and Alternate I of GSAR clause 552.238-80, Industrial Funding Fee and Sales Reporting, are initial setup and monthly reporting. The below provides the basis for calculating these two activities.

Initial Setup

○ Estimated hourly rate & job position equivalency. The estimated hourly cost associated with this task is based on the task being accomplished by senior level personnel equivalent to a GS-14, Step 5 employee. A GS-14, Step 5 employee hourly rate for 2022 is $82.51 (“Rest of U.S.” locality using OPM Salary Table 2022-GS, Effective January 2022).

○ Estimated hours by system for initial set-up. A contractor complying with TDR requirements will absorb a one-time setup burden for purposes of establishing a reporting system (i.e., automated reporting system vs. manual reporting system). The estimated setup time varies between automated and manual reporting systems. GSA estimates the average one-time initial setup burden is 8 hours for a manual system and 240 hours for an automated system.

Monthly Reporting

○ Estimated hourly rate & job position equivalency. The estimated hourly cost associated with this task is based on the task being accomplished by mid-level personnel equivalent to a GS-12, Step 5 employee. A GS-12, Step 5 employee hourly rate for 2022 is $58.72 (i.e., using “Rest of U.S.” locality within the OPM Salary Table for 2022-GS, Effective January 2022).

○ Categorization of contractors by sales revenue. GSA estimates the likelihood of contractors with lower to no reportable sales will spend relatively little time on reporting. In contrast, contractors with more reportable sales will face a higher reporting burden. To account for this difference, GSA is using the below sale revenue categories:

Category 1: No sales activity/revenue (i.e., $0.00)

Category 2: Sales between $0.01 and $25,000.00

Category 3: Sales between $25,000.01 and $250,000.00

Category 4: Sales between $250,000.01 and $1 million

Category 5: Sales over $1 million

The below table show the estimated number of contractors (i.e., both FSS and Non-FSS contractors) by sales revenue category:

Estimated Number of FSS and Non-FSS Contractors by Sales Revenue Category
| FSS | Non-FSS | FSS & non-FSS
Category 1 | 100 | 622 | 722
Category 2 | 500 | 2 | 502
Category 3 | 1,000 | 32 | 1,032
Category 4 | 500 | 73 | 573
Category 5 | 672 | 418 | 1,090
Total | 2,822 | 1,147 | 3,969

○ Automated system vs. manual reporting system. GSA estimates the likelihood of a contractor creating an automated reporting system increases with a contractor's sales revenue. In contrast, contractors with little to no sales revenue are unlikely to expend the effort needed to establish an automated reporting system. To account for this difference, GSA is using the below table. The below table shows by sales revenue category the estimated percentage of the likelihood of a contractor using a manual reporting system vs automated reporting system:

Percentage of Contractors by Type of Reporting System
Sales category | Manual system (%) | Automated system (%)
Category 1 | 100 | 0
Category 2 | 100 | 0
Category 3 | 90 | 10
Category 4 | 50 | 50
Category 5 | 10 | 90

The following table show the estimated number of contractors for both FSS contracts and Non-FSS contracts by type of reporting system:

Estimated Number of Contractors for Both FSS Contracts and Non-FSS Contracts by Type of Reporting System
| Manual system (FSS) | Automated system (FSS) | Manual system (non-FSS) | Automated system (non-FSS)
Category 1 | 100 | 0 | 622 | 0
Category 2 | 500 | 0 | 2 | 0
Category 3 | 900 | 100 | 29 | 3
Category 4 | 275 | 275 | 36 | 37
Category 5 | 67 | 605 | 42 | 376
Totals | 1,842 | 980 | 731 | 416

○ Estimated monthly reporting time (hours)—by reporting system and sales revenue category. GSA estimates that the monthly reporting time varies by type of reporting system (i.e., manual or automated) and by respective sales revenue category. The below table shows GSA's estimated monthly reporting times per sales revenue category and system type:

Monthly Hours by Type of Reporting System and Category
| Manual systems | Automated systems
Category 1 | 0.25 | 2.00
Category 2 | 2.00 | 2.00
Category 3 | 4.00 | 2.00
Category 4 | 16.00 | 2.00
Category 5 | 48.00 | 2.00

Total estimated burden hour/cost for GSAR clause 552.216-75, Transactional Data Reporting.

Initial Setup.

Total estimated annual burden hours: 28,464

Total estimated annual cost burden: $2,348,650.03

Monthly Reporting.

Total estimated annual burden hours: 44,394

Total estimated annual cost burden: $2,606,982.16

Total estimated burden hour/cost for Alternate I of GSAR clause 552.238-80, Industrial Funding Fee and Sales Reporting.

Initial Setup.

Total estimated annual burden hours: 34,328

Total estimated annual cost burden: $2,832,506.26

Monthly Reporting.

Total estimated annual burden hours: 170,412

Total estimated annual cost burden: $10,007,231.69

Total estimated annual burden hour/cost for 552.216-70, Economic Price Adjustment—FSS Multiple Award Schedule Contracts (Deviation II).

Estimated # of responses per year: 461

Estimated burden hours per response: × 4.25

Total estimated annual burden hours: 1,959.25

Estimated cost per hour: × $82.51

Total estimate annual cost burden: $161,663.60

Total estimated annual burden hour/cost for Alternate I of GSAR clause 552.238-81, Price Reductions.

Estimated # of responses per year: 25

Estimated burden hours per response: × 4.25

Total estimated annual burden hours: 106

Estimated cost per hour**: × $82.51

Total estimate annual cost burden: $8,775.00

Total estimated annual burden hour/cost for GSAR clause 552.238-83, Examination of Records by GSA.

Estimated # of respondents per year: 8

Estimated burden hours per respondent: × 455

Total estimated annual burden hours: 3,640

Estimated cost per hour**: × $82.51

Total estimated annual cost burden: $300,347.32

Total estimated annual burden hour/cost for GSAR clause 552.238-85, Contractor's Billing Responsibilities, is 0 burden hours/$0.00 burden cost. The reason for zero burden being associated with this clause is because the record keeping requirement contained in this clause does not add any additional burden to what is already captured by Alternate I of GSAR clause 552.238-80, Industrial Funding Fee and Sales Reporting, which is covered by this information collection.

Total Estimated Annual Burden Hour/Cost

The total estimated annual burden hour/cost imposed by this information collection is as follows:

Total estimated annual burden hours

FSS contracts: 210,446

Non-FSS contracts: 72,858

Total estimated annual burden hour: 281,344

Total estimated annual cost burden FSS contracts: $13,310,515.87

Non-FSS contracts: $4,955,632.19

Total estimated annual cost burden: $18,104,484.46

C. Public Comments

Public comments are particularly invited on: Whether this collection of information continues to be necessary and whether continues to have practical utility; whether GSA's estimate of the public burden of this collection of information is accurate and based on valid assumptions and methodology; and ways to enhance the quality, utility, and clarity of the information to be collected.

Obtaining Copies of Proposals: Requesters may obtain a copy of the information collection documents from the GSA Regulatory Secretariat Division, by calling 202-501-4755 or emailing GSARegSec@gsa.gov. Please cite “Information Collection 3090-0306, Transactional Data Reporting”, in all correspondence.

Jeffrey A. Koses,
Senior Procurement Executive, Office of Acquisition Policy, Office of Government-wide Policy.

[FR Doc. 2022-18010 Filed 8-19-22; 8:45 am]

BILLING CODE 6820-61-P